DEPARTMENT OF TRANSPORTATION

Federal Highway Administration

Environmental Assessment for the I-395 Air Rights Project

AGENCY: Federal Highway Administration, District of Columbia Division.

ACTION: Notice of availability and public hearing.

SUMMARY: The Federal Highway Administration (FHWA), District of Columbia Division and the District Department of Transportation are announcing the availability for public review of the Environmental Assessment (EA) prepared for the I-395 Air Rights Projects in conjunction with the District Department of Transportation (DDOT). The EA was prepared in compliance with the National Environmental Policy Act of 1969 (NEPA); the Council on Environmental Quality Regulations; and the FHWA Environmental Impact and Related Procedures. The project is also being reviewed under Section 106 of the National Historic Preservation Act and the EA includes a Section 106 Effects Assessment. Interested persons are invited to comment on both the EA and the Effects Assessment.

DATES: Public hearing: The public hearing will be held on November 2, 2011, at Holy Rosary Church (Casa Italiana), 595½ 3rd Street, NW., Washington, DC 20001. The public hearing will consist of an open house from 5:30 p.m. to 6 p.m. followed by a formal presentation and opportunity to comment from 6 p.m. to 7:30 p.m.

Comments: Comments on the EA must be received on or before November 19, 2011.

ADDRESSES: In addition to attending the public hearing at Holy Rosary Church (Casa Italiana), 595 ½ 3rd Street, NW., Washington, DC 20001, you may submit comments or requests for copies of the EA by any of the following methods:

• Project Web site: http://www.i395ea.com. Follow the instructions for submitting comments on the web site.

• E-mail: i395ea@stvinc.com.

• Mail: Mr. Michael Randolph, c/o STV Incorporated, 2722 Merrilee Drive, Suite 350, Fairfax, VA 22031.

Electronic copies may be downloaded from the Project Web Site and hard copies of the EA may also be viewed at the following locations:

Federal Highway Administration (FHWA) 1990 K Street, NW., Suite 510, Washington, DC 20006-1103.

District Department of Transportation, Planning, Policy, and Sustainability Administration, 55 M Street SE., 4th Floor, Washington DC 20003.

Martin Luther King, Jr. Memorial Library, 901 G Street, NW., Washington, DC 20001.

Walker Jones Education Campus Library, 155 L Street NW., Washington, DC 20003.

FOR FURTHER INFORMATION CONTACT: Federal Highway Administration, District of Columbia Division: Mr. Michael Hicks, Environmental/Urban Engineer, 1990 K Street, Suite 510, Washington, DC 20006-1103, Telephone number 202-219-3513, e-mail: michael.hicks@dot.gov; or Mr. Michael Randolph, c/o STV Incorporated, 2722 Merrilee Drive, Suite 350, Fairfax, VA 22031, e-mail: i395ea@stvinc.com.

SUPPLEMENTARY INFORMATION: The proposed action consists of modification to the access ramps connecting the Center Leg Freeway (I-395) with 3rd Street and 2nd Street, just south of Massachusetts Avenue, in Northwest Washington, DC. In addition, the air rights above the depressed portion of the interstate between Massachusetts Avenue, E Street, 3rd Street, and 2nd Street would be declared excess, as would several adjacent parcels of land.

FHWA and DDOT are committed to ensuring that no person is excluded from participation in, or denied the benefits of, its projects, programs, and services on the basis of race, color, national origin, or gender, as provided by Title VI of the Civil Rights Act of 1964 or on the basis of disability as provided by the Americans with Disabilities Act. The meeting location is accessible to persons with disabilities. If you need special accommodations or language assistance services (translation or interpretation), please contact Valerie Lamont at (571) 633-2220 at least one week in advance. These services will be provided free of charge.

Joseph C. Lawson,
Division Administrator.

[FR Doc. 2011-27033 Filed 10-18-11; 8:45 am]

BILLING CODE 4910-22-P